DEPARTMENT OF COMMERCE

Foreign-Trade Zones Board

[Order No. 1165]

Grant of Authority for Subzone Status; Caribbean Petroleum Corporation/Caribbean Petroleum Refining, LP (Oil Refinery Complex) Bayamon, Puerto Rico

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Puerto Rico Industrial Development Company, grantee of Foreign-Trade Zone 7, has made application to the Board for authority to establish special-purpose subzone status at the oil refinery complex of Caribbean Petroleum Corporation/Caribbean Petroleum Refining, LP, located in Bayamon, Puerto Rico (FTZ Docket 33-2000, filed 7/6/00);

Whereas, notice inviting public comment was given in the Federal Register (65 FR 43289, 7/13/00); and,

Whereas, the Board adopts the findings and recommendations of the examiner's report, and finds that the requirements of the FTZ Act and Board's regulations would be satisfied, and that approval of the application would be in the public interest if approval is subject to the conditions listed below;

Now, Therefore, the Board hereby grants authority for subzone status at the oil refinery complex of Caribbean Petroleum Corporation/Caribbean Petroleum Refining, LP, located in Bayamon, Puerto Rico (Subzone 7F), at the locations described in the application, subject to the FTZ Act and the Board's regulations, including § 400.28, and subject to the following conditions:

1. Foreign status (19 CFR 146.41, 146.42) products consumed as fuel for the petrochemical complex shall be subject to the applicable duty rate.

2. Privileged foreign status (19 CFR 146.41) shall be elected on all foreign merchandise admitted to the subzone, except that non-privileged foreign (NPF) status (19 CFR 146.42) may be elected on inputs covered under HTSUS Subheadings #2709.1000-#2710.00.1050, #2710.00.2500 and #2710.00.4510 which are used in the production of:

—petrochemical feedstocks (examiner's report, Appendix “C”);

—products for export;

—and, products eligible for entry under HTSU # 9808.00.30 and # 9808.00.40 (U.S. Government purchases).

Signed at Washington, DC, this 15th day of May 2001.
Faryar Shirzad,
Assistant Secretary of Commerce for Import Administration, Alternate Chairman, Foreign-Trade Zones Board.

[FR Doc. 01-13291 Filed 5-24-01; 8:45 am]

BILLING CODE 3510-DS-P